DEPARTMENT OF HEALTH AND HUMAN SERVICES

Administration for Children and Families, Office of Head Start (OHS)

Public Comment on Tribal Consultation Sessions

AGENCY: Office of Head Start (OHS), Administration for Children and Families, Department of Health and Human Services.

ACTION: Notice of Public Comment on Tribal Consultation Sessions to be held on April 21, May 5, May 13, and May 26, 2009.

SUMMARY: Pursuant to the Improving Head Start for School Readiness Act of 2007, Public Law 110-134, notice is hereby given of one-day Tribal Consultation Sessions to be held between the Department of Health and Human Services, Administration for Children and Families, Office of Head Start leadership and the leadership of Tribal governments operating Head Start (including Early Head Start) programs. The purpose of the Consultation Sessions is to discuss ways to better meet the needs of Indian, including Alaska Native, children and their families, taking into consideration funding allocations, distribution formulas, and other issues affecting the delivery of Head Start services in their geographic locations [42 U.S.C. 9835, Section 640(l)(4)].

Date & Location: The Consultation Sessions will be held as follows:

April 21, 2009-Albuquerque, New Mexico

May 5, 2009-Tucson, Arizona

May 13, 2009-Marksville, Louisiana

May 26, 2009-Anchorage, Alaska

FOR FURTHER INFORMATION CONTACT: Nina McFadden, Regional Program Manager, American Indian/Alaska Native Program Branch, Office of Head Start, e-mail nina.mcfadden@acf.hhs.gov or (202) 205-8569. Additional information and online registration is available at http://www.hsnrc.org. Information on Tribal Consultation Sessions in other Regions will be announced once dates and locations are confirmed.

SUPPLEMENTARY INFORMATION: The Department of Health and Human Services (HHS) would like to invite leaders of Tribal governments operating Head Start (including Early Head Start) programs to participate in a formal Consultation Session with OHS leadership. The Consultation Sessions will take place on Tuesday, April 21, 2009, in Albuquerque, New Mexico; Tuesday, May 5, 2009, in Tucson, Arizona; Wednesday, May 13, 2009, in Marksville, Louisiana; and Tuesday, May 26, 2009, in Anchorage, Alaska. These sessions have been scheduled in conjunction with the HHS Tribal consultations for the convenience of the Tribal leaders. It should be noted that the May 13 consultation in Marksville, Louisiana, is a joint session for Tribes in Regions I, II, IV, and VI. Head Start will be on the HHS consultation agenda for Wednesday afternoon, May 13, 2009. OHS Consultation Sessions in other Regions have yet to be scheduled.

Hotel and logistical information for the Consultation Sessions is currently being confirmed. This information will be sent to Tribal leaders via e-mail and posted on the Head Start Resource Center Web site, http://www.hsnrc.org, as it becomes available.

The purpose of the Consultation Sessions is to solicit input on ways to better meet the needs of Indian, including Alaska Native, children and their families, taking into consideration funding allocations, distribution formulas, and other issues affecting the delivery of Head Start services in their geographic locations.

The agendas for the Consultation Sessions will be developed in conjunction with the HHS Regional Tribal Planning Committees. Tribal leaders and designated representatives interested in submitting topics for a Consultation Session agenda should contact Nina McFadden at nina.mcfadden@acf.hhs.gov. The proposal should include a brief description of the topic area along with the name and contact information of the suggested presenter.

The Consultation Sessions will be conducted with elected or appointed leaders of Tribal governments and their designated representatives [42 U.S.C. 9835, Section 640(l)(4)(A)]. Representatives from Tribal organizations and Native non-profit organizations are welcome to attend as observers. Those serving as representatives of a Tribe must have a written letter from the Tribal government authorizing them to serve as the Tribal representative. This should be submitted not less than three days in advance of the Consultation Session to Nina McFadden at 202-205-9721 (fax).

A detailed report of each Consultation Session will be prepared and made available within 90 days of the consultation to all Tribal governments receiving funds for Head Start (including Early Head Start) programs. Tribes wishing to submit written testimony for the consultation report should send it to Nina McFadden at nina.mcfadden@acf.hhs.gov either prior to the Consultation Session or within 30 days after the meeting. Please note that only written testimony submitted to OHS will be included in the report, as an appendix. Testimony and comments made orally will be summarized in the report without attribution, along with topics of concern and recommendations.

Dated: March 19, 2009.
Frank Fuentes,
Acting Director, Office of Head Start.

[FR Doc. E9-6551 Filed 3-24-09; 8:45 am]

BILLING CODE 4184-01-P